DEPARTMENT OF COMMERCE

National Oceanic and Atmospheric Administration

[Docket No. 030602141-5303-32]

Financial Assistance To Establish New Cooperative Science Centers Under NOAA's Educational Partnership Program (EPP) With Minority Serving Institutions in Atmospheric, Oceanic and Environmental Sciences, Living Marine Resources Science and Management, and Remote Sensing Technology at Minority Serving Institutions

AGENCY: Office of Education, National Oceanic and Atmospheric Administration (NOAA), Department of Commerce.

ACTION: Notice of availability of funds and solicitation for proposals for these funds.

SUMMARY: The purpose of this document is to advise the public that NOAA's Educational Partnership Program is soliciting new accredited post secondary minority serving institutions (MSI)—Cooperative Science Center proposals. These Centers are to establish partnerships between the accredited post secondary MSIs and NOAA. The partnership goal is to expand the institution's training and research capabilities and supporting program development. The developed programs will support NOAA's mission. The Cooperative Centers must establish in the NOAA core science areas: Atmospheric, oceanic and environmental sciences; living marine resources science and management; and remote sensing technology.

The EPP/MSI is a competitive program designed to strengthen and enhance the research and training capabilities and to support the development of programs directly related to NOAA's mission at MSIs. The EPP is designed to enhance NOAA's capability to increase environmental literacy by establishing partnerships with academia, the private sector, and other Federal, State, Tribal and local agencies. Thus, the funding opportunity is intended to engage the MSI academic community in training and collaborative research across the spectrum of atmospheric, oceanic and environmental sciences, living marine resources science and management, and remote sensing technology in support of NOAA's mission.

DATES: Applications must be received by NOAA Educational Partnership Program (EPP) no later than 2 p.m. (eastern standard time), February 13, 2006.

ADDRESSES: Applications submitted in response to this announcement are strongly encouraged to submit through the Grants.gov Web site. Electronic access to the Full Funding Opportunity Announcement for this program is available via the Grants.gov Web site: http://www.grants.gov. The announcement will also be available at the NOAA EPP Web site http://epp.noaa.gov or by contacting the program officials identified below. Applicants must comply with all requirements contained in the full funding opportunity announcement. If Internet access is unavailable, paper applications (a signed original and two copies) may be submitted to the Educational Partnership Program at the following address: NOAA/OAR/EPP, 1315 East West Highway, Room 10600, Silver Spring, Maryland 20910. No facsimile applications will be accepted. Institutions are encouraged to submit Letters of Intent to NOAA/EPP within 30 days of this announcement to aid in planning the review processes.

Letters of Intent may be submitted via e-mail to Jacqueline.J.Rousseau@noaa.gov or Meka.Laster@noaa.gov. Information should include a general description of the Center proposal and participating institutions.

FOR FURTHER INFORMATION CONTACT: Jacqueline J. Rousseau, Program Director at 301-713-9437 ext. 124 or Jacqueline.J.Rousseau@noaa.gov. The alternative contact is Meka E. Laster at 301-713-9437 ext. 147 or Meka.laster@noaa.gov.

SUPPLEMENTARY INFORMATION:

Summary Description

NOAA is committed to recruiting and retaining underrepresented community employees. NOAA is committed to training students in NOAA related sciences and conduct the ongoing mission of the agency. Therefore, the agency established a program aimed at MSI partnering that train and graduate students in the areas of atmospheric, oceanic and environmental sciences, fisheries sciences, and management, and remote sensing technology. Since approximately 40% of minority students receive their undergraduate degrees at MSIs, direct collaboration with MSIs is an effective way to increase the number of minority students trained and graduated. The MSI students receive NOAA-related science degrees and may engage in research and pursue careers compatible with the Agency's mission.

The National Science Foundation (NSF) Science and Engineering Indicators 2004 Report furnishes the doctoral and master's degree statistics for selected years, 1994-2003. The sciences include earth, atmospheric, and ocean sciences. The minority student statistics are below the national average. For example, the 2004 NSF report lists 26,413 U.S. citizen, science and engineering doctoral degrees. However, the number of minority student graduates awarded doctoral degrees includes:

• 1708 African Americans;

• 1270 Hispanics;

• 133 American Indian/Alaskan Natives;

• 1417 Asian/Pacific Islanders.

The 474 earth, atmospheric and ocean sciences doctoral degrees were awarded to:

• 15 African Americans;

• 13 Hispanics;

• 2 American Indians and Alaskan Natives;

• 10 to Asian/Pacific Islanders.

Additionally, minority group master's degrees statistics are disproportionately low. With such a limited pool of potential employees from underrepresented communities trained in NOAA-related sciences, it is important that NOAA seek new ways to make students aware of the mission of the agency and to support activities that increase opportunities for students trained in NOAA-related sciences.

Proposals for the Cooperative Science Centers shall support NOAA's mission as defined in NOAA's Strategic Plan—located at http://www.noaa.gov—.

The Educational Partnership Program supports the

• NOAA Strategic Plan.

• U.S. Ocean Action Plan.

• NOAA Education Plan.

• DOC/NOAA Succession Planning and Management Program Plan.

Institutions may compete for an award to establish a Cooperative Science Center based on the following criteria:

Atmospheric Cooperative Science Center: Atmospheric Cooperative Science Center proposals should address the ability to conduct collaborative research in numerical weather prediction, data assimilation, climate modeling, climate analysis and prediction, water resources, and/or studies that lead to improvements in warning and forecast operations. Atmospheric Center graduates should meet the National Weather Service's course requirements for meteorologists which include:

1. Twenty four (24) semester hours in meteorology including six semester hours in weather analysis and prediction of weather systems (synoptic/mesoscale); six semester hours of atmospheric dynamics and thermodynamics; three semester hours of physical meteorology; and two semester hours of remote sensing technology of the atmosphere and/or instrumentation;

2. Six semester hours of physics with at least one course that includes laboratory sessions;

3. Three semester hours of ordinary differential equations; and,

4. Nine semester hours of course work appropriate for a physical science major in any combination of three or more of the following: Physical hydrology, statistics, chemistry, physical oceanography, physical climatology, radiative transfer, aeronomy, advanced thermodynamics, advanced electricity and magnetism, light and optics, computer science. There is a prerequisite or co-requisite of calculus for course work in atmospheric dynamics and thermodynamics, physics, and differential equations. Calculus courses must be appropriate for a physical science major. The Center's proposal should address how its graduates will meet these course requirements.

Living Marine Resources Cooperative Science Center: Living Marine Resources Cooperative Science Center (LMRCSC) proposals should address the ability to support education and research in marine science including an emphasis on the following: Biological assessments; stock assessment; marine chemical assessments; habitat quality, coastal ecology—including ecosystem monitoring; remote sensing technology and GIS mapping; biodiversity; essential fish habitat; fishery economics; fishery-related social sciences and fishery biology, to include reproduction and food habitats; systematics and taxonomy; biotechnology; aquaculture; and enhancement.

LMRCSC graduates should meet the course requirements with a major studies in biology, zoology, or biological oceanography that include at least 30 semester hours in biological, marine, and aquatic science and 15 semester hours in the physical and mathematical sciences. The course work must include:

1. At least 15 semester hours in zoology beyond introductory biology or zoology in such course as invertebrate zoology, comparative anatomy, histology, physiology, embryology, advanced vertebrate zoology, genetics, entomology, and parasitology.

2. At least 6 semester hours of training applicable to fishery biology in such subjects as fishery biology, ichthyology, limnology, oceanography, algology, planktonology, marine or fresh water ecology, invertebrate ecology, principles of fishery population dynamics, or related course work in the field of fishery biology.

3. At least 15 semester hours of training in any combination of two or more of the following chemistry, physics, mathematics, or statistics.

Graduates must be able to carry out a variety of tasks including: predicting population trends of living marine resources (LMR); developing harvest strategies that maintain sustainable yields of renewable resources; analyzing the social and economic impacts of various management decisions on communities by decisions related to LMR. In addition, graduates must be able to design and carry out projects for LMR.

Environmental Cooperative Science Center: Environmental Cooperative Science Center (ECSC) proposals should address the ability to respond to coastal and ocean threats, restore damaged areas, manage coastal and ocean resources and support maritime commerce. Key areas of focus could include:

1. Understanding, predicting, assessing, managing, and communicating the impacts of human and natural stresses on coastal ocean ecosystems, including impacts from climate change, pollution, land and resource use, invasive species, and extreme natural events;

2. Developing science-based support and guidance for integrated coastal and ocean management, including full integration of biophysical sciences, ecology, and human dimensions; and,

3. Increased understanding of the physical, chemical, and biological processes that both impact and support coastal navigation and ports, as well as an integration of this biophysical understanding with human dimensions to increase navigation safety and decrease potential negative impacts to ecosystems and coastal resources.

ECSC graduates should have at least 24 semester hours that include coursework in each of the areas of physical, chemical, biological, and ecological sciences. Supporting coursework in engineering (civil, marine, electrical, chemical, environmental, mechanical, ocean, as applicable to Center focus areas) would be an asset. Knowledge of pertinent research and analytical methodology, as well as the ability to apply the aforementioned sciences and disciplines to policy and management issues, is required.

Remote Sensing Technology Cooperative Science Center: Remote Sensing Technology Cooperative Science Center must have particular emphasis in environmental satellite-related research activities directed toward helping to sustain healthy coasts, to build sustainable fisheries, to recover protected species, to help improve weather forecasts and warnings, to provide improved environmental forecasts or analyses, and to prepare for future NOAA operational environmental satellite missions. The Center will be expected to:

1. Provide an organizational setting to promote and establish programs and related research relating to remote sensing technology by drawing upon multiple disciplines and involving collaboration with multiple performing and research-sponsoring partners;

2. Serve as a model for outreach, input, and collaboration that help ensure that research can be applied to solving priority NOAA remote sensing technology, current satellite system optimization, and future satellite system development and planning;

3. Expand research in remote sensing technology, satellite data management, and user access technologies; and,

4. Support multi-disciplinary research projects aimed at NOAA's remote sensing technology mission responsibilities, to include: (a) Passive radiometric remote sensing technology; (b) Passive multi-spectral remote sensing technology; (c) High spectral resolution (hyperspectral) remote sensing technology; (d) Active and passive microwave remote sensing technology; (e) Satellite sensor development and demonstration in the categories above; (f) technologies relating to satellite data acquisition, data distribution, mission operations, and mission planning; and, g) Technologies relating to improved user data access and data management. Through such multi-disciplinary research, explore new approaches to enhance the use of present and future environmental satellites to meet the rapidly changing environmental needs of the Nation.

The Cooperative Science Centers's principal academic institution must be an accredited MSI with a Ph.D. program in one of the NOAA core science areas in atmospheric, oceanic and environmental sciences, living marine resources science and management, and remote sensing technology. A Cooperative Science Center Distinguished Scientist position must be created—within one year— to develop significant research projects for their respective Center and other EPP Centers, MSIs, NOAA science and research facilities and relevant agencies. Faculty and staff exchanges are an integral part of this program and opportunities for faculty and staff exchanges are available for collaborative research or other agreed upon activities. A postdoctoral program supported by NOAA EPP funds must be established at each of the Science Centers. During the two-year fellowship the postdoctoral research should be collaborative between the postdoctoral fellow and NOAA scientist and address a NOAA core science area. The candidates do not become NOAA employees. NOAA expects the Center to develop mechanisms and approaches that increase Center student course and seminar offerings not only at the Center MSI but at other MSIs and partner institutions. A K-12 science education program must be established at each of the Science Centers. The K-12 science education program purpose is increasing the basic science and math skilled student pipeline. A thirty percent (30%) award minimum is required for student support, that includes—but is not limited to— scholarships, fellowships, travel expenses to professional meetings and for conducting site research. While the Centers are established at MSIs, non-minority serving institutions consortia are not restricted. Also, private and public sector partnerships are encouraged.

Electronic Access

Applicants can access download and submit electronic grant applications, including the Full Funding Opportunity Announcement, for NOAA programs at the Grants.gov Web site: http://www.grants.gov. The announcement will also be available at the NOAA EPP Web site http://epp.noaa.gov or by contacting the program officials identified above. The closing date will be the same as for the paper submissions noted in this announcement. NOAA strongly recommends that you do not wait until the application deadline date to begin the application process through Grants.gov. If Internet access is unavailable, hard copies of proposals will also be accepted-a signed original and two copies at time of submission. This includes color or high-resolution graphics, unusually sized materials, or otherwise unusual materials submitted as part of the proposal. For color graphics, submit either color originals or color copies. Facsimile transmissions and electronic mail submission of full proposals will not be accepted.

Funding Availability

Subject to Congressional appropriations, this solicitation announces that funding at a maximum of $50 million will be available for the Cooperative Science Centers over a five-year period. Proposals are limited to a total of $12.5 million for a maximum of five years and four proposals will be funded. The funding instrument will be a cooperative agreement since NOAA will be substantially involved in developing research priorities, conducting cooperative activities with recipients, exchanging staff and providing internship opportunities for students at MSIs.

Authority: 15 U.S.C. 1540, 49 U.S.C. 44720, 33 U.S.C. 883d, 33 U.S.C. 1442, 16 U.S.C. 1854(e), 16 U.S.C. 661, 16 U.S.C. 753(a), 16 U.S.C. 1451 et seq., 16 U.S.C. 1431, 33 U.S.C. 883a and Executive Orders 13230, 13256, 13270, 13336, and 13339.

Catalog of Federal Domestic Assistance: 11.481—Educational Partnership Program with Minority Serving Institutions.

Eligibility: For the purposes of this program, Historically Black Colleges and Universities, Hispanic Serving Institutions, Tribal Colleges and Universities, and Alaska Native and Native Hawaiian Serving Institutions, as identified on the 2004 United States Department of Education, Accredited Postsecondary Minority Institution list at http://epp.noaa.gov, are eligible to apply. Proposals will not be accepted from non-profit organizations, foundations, auxiliary services or any other entity submitted on behalf of MSIs.

Cost Sharing Requirements: None.

Intergovernmental Review: Applications under this program are not subject to Executive Order 12372, “Intergovernmental Review of Federal Programs.”

Evaluation and Selection Criteria and Procedures: NOAA published its agency-wide solicitation entitled “Omnibus Notice Announcing the Availability of Grant Funds for Fiscal Year 2006” for projects for Fiscal Year 2006 in the Federal Register on June 30, 2005 (70 FR 37766). The evaluation and selection criteria and procedures for projects contained in that omnibus notice are applicable to this notice. Copies of this notice are available on the Internet at http://www.ofa.noaa.gov/%7Eamd/SOLINDEX.HTML. Further details on evaluation and selection criteria and procedures applicable to this notice can be found in the full funding opportunity announcement.

National Environmental Policy Act (NEPA)

NOAA must analyze the potential environmental impacts, as required by the National Environmental Policy Act (NEPA), for applicant projects or proposals which are seeking NOAA federal funding opportunities. Detailed information on NOAA compliance with NEPA can be found at the following NOAA NEPA Web site: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for the denial of an application. In some cases if additional information is required after application is selected, funds can be withheld by the Grants Officer under a special award condition requiring the recipient to submit additional environmental compliance information sufficient to enable NOAA to make an assessment on any impacts that a project may have on the environment.

Pre-Award Notification Requirements for Grants and Cooperative Agreements

The Department of Commerce Pre-Award Notification Requirements for Grants and Cooperative Agreements contained in the Federal Register notice of December 30, 2004 (69 FR 78389) are applicable to this solicitation.

Limitation of Liability

Funding for the Cooperative Science Centers listed in this notice is contingent upon availability of Fiscal Year 2006 appropriations. Applicants are hereby given notice that funds have not yet been appropriated for the Cooperative Science Centers. In no event will NOAA or the Department of Commerce be responsible for proposal preparation costs if these programs fail to receive funding or are cancelled because of other agency priorities. Publication of this announcement does not oblige NOAA to award any specific project or to obligate any available funds. Recipients and sub-recipients are subject to all Federal laws and agency policies, regulations and procedures applicable to Federal financial assistance awards.

Paperwork Reduction Act

This notification involves collection-of-information requirements subject to the Paperwork Reduction Act. The use of Standard Forms 424, 424A, 424B, and SF-LLL and CD-346 has been approved by the Office of Management and Budget (OMB) under control numbers 0348-0043, 0348-0044, 0348-0040 and 0348-0046 and 0605-0001. Notwithstanding any other provision of law, no person is required to respond to, nor shall any person be subject to a penalty for failure to comply with, a collection of information subject to the requirements of the PRA unless that collection of information displays a currently valid OMB control number.

Executive Order 12866

It has been determined that this notice is not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative procedure Act or any other law for rules concerning public property, loans, grants, benefits, and contracts (5 U.S.C. 553(a)(2)). Because notice and opportunity for comments are not required pursuant to 5 U.S.C. 553 or any other law, the analytical requirements of the Regulatory Flexibility Act (5 U.S.C. 601 et seq.) are inapplicable. Therefore, a regulatory flexibility analysis has not been prepared, and none has been prepared.

Mark Brown,
Chief Financial Officer, NOAA Oceanic and Atmospheric Research.

[FR Doc. E5-7395 Filed 12-14-05; 8:45 am]

BILLING CODE 3510-KD-P